LEGAL SERVICES CORPORATION

Sunshine Act Meeting of the Board of Directors Operations and Regulations Committee

Time and Date: The Operations and Regulations Committee of the Legal Services Corporation Board of Directors will meet January 31, 2004. The meeting will begin at 10 a.m. and continue until completion of the Committee's agenda.

Location: The Melrose Hotel, 2430 Pennsylvania Avenue, NW., Washington, DC 20037.

Status of Meeting: Open.

Matters To Be Considered:

Open Session

1. Approval of agenda.

2. Approval of the Committee's meeting minutes of November 22, 2003.

3. Consider and act on possible changes to LSC's organizational chart, lines of reporting and related position designations.

4. Public comment.

5. Consider and act on other business.

6. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: January 22, 2004.
Victor M. Fortuno,
Vice President for Legal Affairs, General Counsel & Corporate Secretary.

[FR Doc. 04-1778 Filed 1-23-04; 11:15 am]

BILLING CODE 7050-01-P